DEPARTMENT OF HEALTH AND HUMAN SERVICES

Centers for Disease Control and Prevention

Humanitarian Exemption Approved for All Afghan Evacuees Subject to CDC's Global Testing Order

AGENCY: Centers for Disease Control and Prevention (CDC), Department of Health and Human Services (HHS).

ACTION: Notice.

SUMMARY: The Centers for Disease Control and Prevention (CDC), located within the Department of Health and Human Services (HHS), announces a blanket humanitarian exemption to the agency's Requirement for Negative Pre-Departure COVID-19 Test Result for individuals relocating to the United States from Afghanistan, including U.S. citizens, lawful permanent residents (LPRs), third country nationals, and Afghans at risk, including Afghan Special Immigrant Visa (SIV) applicants.

DATES: This exemption went into effect on August 15, 2021.

FOR FURTHER INFORMATION CONTACT: Tiffany Brown, Deputy Chief of Staff, Centers for Disease Control and Prevention, 1600 Clifton Road NE, MS H21-10, Atlanta, GA 30329. Phone: 404-639-7000. Email: cdcregulations@cdc.gov.

SUPPLEMENTARY INFORMATION: On January 12, 2021, CDC announced an Order requiring all air passengers arriving to the U.S. from a foreign country to get tested no more than 3 days before their flight departs and to present the negative result or documentation of having recovered from COVID-19 to the airline before boarding the flight.

In August 2021, the U.S. Department of State (DOS) issued a series of Security Alerts for Afghanistan due to increased Taliban activity throughout the country, including the capital of Kabul. In response to a request from DOS on August 15, 2021, CDC and the U.S. Department of Health and Human Services (HHS) granted a blanket humanitarian exemption to CDC's Order to expedite the evacuation of U.S. citizens, lawful permanent residents (LPRs), third country nationals, and Afghans at risk, including Afghan Special Immigrant Visa (SIV) applicants, while adhering to COVID-19 mitigation guidance issued by CDC.

The exemption, which is being administered by DOS and cooperating federal and state agencies, was granted with the following conditions: (1) The CDC Order requiring mask use for passengers and crew on air conveyances bound for the United States should be followed to the extent possible; (2) all efforts should be made to test and provide test documentation to the traveler at a transit location prior to arrival in the United States that can be presented upon arrival, and if this cannot be done, individuals (travelers) arriving are required to undergo COVID-19 testing immediately upon arrival to the first port of entry in the United States; (3) individuals who test positive are required to isolate prior to continuing on commercial transportation to their final destination; and (4) family members of those testing positive may require adhering to self-quarantine recommendations as stipulated by CDC or state and local health authorities at the arrival location.

In addition, all Afghan evacuees covered by the exemption must also agree to comply with relevant CDC post-travel public health guidance including:

• Watch their health for symptoms of COVID-19. If they become ill during the flight to the United States or while in a U.S. airport, they should immediately report their illness.

• Take all the necessary steps to protect themselves and others during travel, such as wearing a mask to keep their nose and mouth covered when in public settings, including on public transportation and in airports and other transportation hubs until they arrive at their final destination.

• Avoid being around people who are at increased risk for severe illness for 14 days.

• Follow all federal, state, territorial, and local requirements and all other public health measures for preventing community transmission of COVID-19.

Authority: The CDC Director is issuing this Notice pursuant to Sections 361 of the Public Health Service Act, 42 U.S.C. 264, and implementing regulations at 42 CFR 71.20 and 71.31(b).

Dated: August 31, 2021.
Sherri Berger,
Chief of Staff, Centers for Disease Control and Prevention.

[FR Doc. 2021-19089 Filed 9-2-21; 8:45 am]

BILLING CODE 4163-18-P